DEPARTMENT OF COMMERCE

National Oceanic and Atmospheric Administration

Affirmation of Vertical Datum for Surveying and Mapping Activities for the island of Tutuila, American Samoa

AGENCY: National Geodetic Survey (NGS), National Ocean Service (NOS), National Oceanic and Atmospheric Administration.

ACTION: Notice.

SUMMARY: This Notice announces a decision by the Federal Geographic Data Committee's Federal Geodetic Control Subcommittee, in accordance with the Office of Management and Budget, Circular A-16 (http://www.whitehouse.gov/omb/circulars/a016/a016.html) to affirm the American Samoa Vertical Datum of 2002 (ASVD 02) as the official civilian vertical datum for surveying and mapping activities for the island of Tutuila, American Samoa performed or financed by the Federal Government and to the extent practicable, legally allowable and feasible, require that all Federal agencies, with the exception of those with specific military related applications, using or producing vertical height information undertake an orderly transition to ASVD 02.

DATES: Individuals or organizations wishing to submit comments on the adoption of ASVD 02 as the official civilian vertical datum for Tutuila, American Samoa, should do so by February 23, 2009.

ADDRESSES: Written comments should be sent to the attention of David Doyle, Chief Geodetic Surveyor, Office of the National Geodetic Survey, National Ocean Service (N/NGS2), 1315 East-West Highway, Silver Spring, Maryland, 20910, fax 301-713-4324, or via e-mail Dave.Doyle@noaa.gov.

FOR FURTHER INFORMATION CONTACT: Requests for additional information should be directed to David Doyle, Chief Geodetic Surveyor, National Geodetic Survey (N/NGS2), 1315 East-West Highway, Silver Spring, MD, 20910; Phone: (301) 713-3178.

SUPPLEMENTARY INFORMATION: The National Ocean Service (NOS), National Geodetic Survey (NGS), has completed the definition and implementation of ASVD 02. ASVD 02 supersedes all previously published height systems determined by all Federal surveying and mapping agencies, with the exception of those specifically related to tidal datums and/or military applications for Tutuila. At this time, ASVD 02 does not apply to any of the other islands of American Samoa. ASVD 02 heights are the result of a mathematical least squares general adjustment of the vertical control portion of the National Spatial Reference System (NSRS) and includes 54 km of 1st-Order, Class II geodetic leveling observations undertaken specifically for this project. The basis for all ASVD 02 heights is Mean Sea Level, for the epoch 1983-2001, as determined by the NOS Center for Operational Oceanographic Products and Services (CO-OPS), and published for the National Water Levels Observation Network (NWLON) bench mark number177 0000 S (1.364 meters), located in Pago Pago.

ASVD 02 height information for individual geodetic control monuments is available in digital form, from the NGS Web site: http://www.ngs.noaa.gov/cgi-bin/datasheet.prl.

Dated: December 30, 2008.
David B. Zilkoski,
Director, National Geodetic Survey, National Ocean Service, National Oceanic and Atmospheric Administration.

[FR Doc. E9-1181 Filed 1-21-09; 8:45 am]

BILLING CODE 3510-JE-P